DEPARTMENT OF ENERGY

Federal Energy Regulatory Commission

[Project No. 5637-005]

Bell Mountain Hydro LLC; Notice of Application for Amendment of Exemption and Soliciting Comments, Motions To Intervene, and Protests

January 11, 2011.

Take notice that the following hydroelectric application has been filed with the Commission and is available for public inspection:

a. Application Type: Amendment of Exemption.

b. Project No.: 5637-005.

c. Date Filed: November 22, 2010.

d. Applicant: Bell Mountain Hydro, LLC.

e. Name of Project: Pancheri Hydroelectric Project.

f. Location of Project: On the Telford Irrigation Pipeline, in Butte County, Idaho.

g. Filed Pursuant to: Federal Power Act, 16 U.S.C. 791a-825r.

h. Applicant Contact: Mr. Ted Sorenson, Bell Mountain Hydro LLC, 5203 South 11th East, Idaho Falls, ID 83404; (208) 522-8069.

i. FERC Contact: Mr. Christopher Chaney, (202) 502-6778, christopher.chaney@ferc.gov.

j. Deadline for filing comments, motions to intervene, and protest: February 10, 2011.

All documents may be filed electronically via the Internet. See, 18 CFR 385.2001(a)(1)(iii) or the instructions on the Commission's Web site at http://www.ferc.gov/docs-filing/efiling.asp. If unable to be filed electronically, documents may be paper-filed. To paper-file, an original and seven copies should be mailed to: The Secretary, Federal Energy Regulatory Commission, 888 First Street, NE., Washington, DC 20426. Commenters may submit comments up to 6,000 characters, without prior registration, using the eComment system at http://www.ferc.gov/docs-filing/ecomment.asp. You must include your name and contact information at the end of your comments.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency.

k. Description of Request: Bell Mountain Hydro, LLC is seeking an amendment to reflect the transmission line configuration as it was originally built in 1982. The original exemption authorized the construction of a 7,000-foot-long transmission line extending in a south-southeast direction from the powerhouse. However, the original line, as-built in 1982, is approximately 5,830 feet in length and extends from the powerhouse toward the south-southwest. The amendment does not propose any new construction or modifications to project facilities or changes in project operation.

l. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via e-mail of new filings and issuances related to this or other pending projects. For assistance, contact FERC Online Support.

m. Individuals desiring to be included on the Commission's mailing list should so indicate by writing to the Secretary of the Commission.

Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Any filings must bear in all capital letters the title “COMMENTS,” “PROTEST,” or “MOTION TO INTERVENE,” as applicable, and the Project Number of the particular application to which the filing refers. A copy of any motion to intervene must also be served upon each representative of the Applicant specified in the particular application.

Federal, State, and local agencies are invited to file comments on the described application. A copy of the application may be obtained by agencies directly from the applicant. If an agency does not file comments within the time specified for filing comments, it will be presumed to have no comments. One copy of an agency's comments must also be sent to the Applicant's representatives.

Kimberly D. Bose,
Secretary.

[FR Doc. 2011-914 Filed 1-14-11; 8:45 am]

BILLING CODE 6717-01-P